DEPARTMENT OF TRANSPORTATION

Office of the Secretary

[OST Docket No. DOT-OST-2011-0022]

Notice of Submission of Proposed Information Collection to OMB Agency Request for Renewal of a Previously Approved Collection: Online Complaint/Comment Form for Service-Related Issues in Air Transportation

AGENCY: Office of the Secretary, Department of Transportation.

ACTION: Notice and request for comments.

SUMMARY: In compliance with the Paperwork Reduction Act of 1995, this notice announces that the request for reinstatement of an OMB Control Number for the Information Collection Request (ICR) abstracted below is being forwarded to the Office of Management and Budget (OMB) for review and comment. A Federal Register Notice with a 60-day comment period soliciting comments on the following information collection was published on November 29, 2021.

DATES: Comments on this notice must be received by March 14, 2022.

ADDRESSES: Send comments regarding the burden estimate, including suggestions for reducing the burden, to the Office of Management and Budget, Attention: Desk Officer for the Office of the Secretary of Transportation, 725 17th Street NW, Washington, DC 20503. Comments may also be sent via email to OMB at the following address: oira_submissions@omb.eop.gov.

FOR FURTHER INFORMATION CONTACT: Daeleen Chesley, Office of the Secretary, Office of Aviation Consumer Protection (C-70), Department of Transportation, 1200 New Jersey Ave. SE, Washington, DC 20590, 202 366-6792 (voice) or at Daeleen.Chesley@dot.gov.

SUPPLEMENTARY INFORMATION:

OMB Control Number: 2105-0568.

Title: Reinstatement of the Office of Aviation Consumer Protection's web page Online Complaint/Comment Form.

Abstract: The Department of Transportation's (Department) Office of Aviation Consumer Protection (OACP, formerly the Office of Aviation Enforcement and Proceedings) has broad authority under 49 U.S.C., subtitle VII, to investigate and enforce consumer protection and civil rights laws and regulations related to air transportation.

Among other things, OACP is responsible for receiving and investigating service-related consumer complaints filed against airlines and other air travel-related companies. Once received, the complaints are reviewed by the office to determine the extent to which these entities are in compliance with federal aviation consumer protection and civil rights laws and what, if any, action should be taken regarding consumer complaints. Consumer complaints and comments are also used by the office to identify opportunities to help improve airline consumer satisfaction. The information submitted via the online form can also serve as a basis for rulemaking, legislation and research.

The key reason for this request is to enable consumers to continue to file their complaints and comments to the Department using an online form, whether via their personal computer or on a mobile/electronic device. If the online complaint form is not available, the Department may receive fewer complaints, comments, and inquiries from consumers. The lack of consumer input could inhibit OACP's ability to effectively investigate individual complaints against both airlines and other air travel-related companies. It would also impact OACP's ability to become aware of patterns and practices that may develop in violation of the Department's rules. The information collection continues to further the objective of 49 U.S.C. 41712 to protect consumers from unfair or deceptive practices, the objective of § 41705 and § 40127 to ensure the civil rights of air travelers are respected, and the objective of § 41702 to ensure safe and adequate service in air transportation.

Filing a complaint or comment using a web-based form is voluntary and minimizes the burden on respondents. Based on the table below, approximately ninety percent of the submissions (complaints, comments, and inquiries) received by OACP during calendar years (CYs) 2017 through 2019 were filed using the web-based form as shown in the table below.¹

¹ In CYs 2020/21, OACP received an unusually high number (100,613/48,015, respectively) of online submissions, primarily complaints, largely due to flight cancellations and refund issues that resulted from the COVID-19 pandemic. Using the average number of submissions from the three previous CYs more accurately reflects the annual number of online submissions received by OACP.

Calendar year | Total number of complaints filed | Total number of complaints filed online | Percentage of complaints filed online (%)
2017 | 18,155 | 16,067 | 89
2018 | 15,546 | 13,964 | 90
2019 | 15,342 | 14,107 | 92
Average Total per Year (above) | 16,348 | 14,713 | 90

Most of the submissions are complaints that are filed using the electronic web-based form. At times, consumers may also choose to file a complaint with the Department using regular mail or by phone message. The type of information requested on the form includes complainant's name, address, phone number (including area code), email address, and name of the airline or company about which she/he is complaining, as well as the flight date and flight itinerary (where applicable) of a complainant's trip. In addition, a consumer may also use the form to give a description of a specific air-travel related problem or to ask for air-travel related information from the OACP. The Department has limited its informational request to that necessary to meet its aviation consumer protection responsibilities.

The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On November 29, 2021, OST published a 60-day notice in the Federal Register soliciting comment on the ICR for which the agency is seeking reinstatement from OMB. 86 FR 67785. The comment period ended on January 28, 2022. OST received no comments after issuing this notice. Accordingly, the Department announces that this information collection activity has been re-evaluated and certified under 5 CFR 1320.5(a) and forwarded to OMB for review and approval pursuant to 5 CFR 1320.12(c).

Before OMB decides whether to reinstate this proposed collection of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

Respondents: Consumers that Choose to File an Online Complaint/Comment with the Office of Aviation Consumer Protection.

Estimated Number of Respondents: 14,713 (based on averaging data from CYs 2017-19).

Estimated Total Burden on Respondents: 3,678.25 hours (220,695 minutes). The estimate was calculated by multiplying the average number of cases filed using the online form in CYs17-19 (14,713) by the time needed to fill out the online form (15 minutes).

The information collection is available for inspection in regulations.gov, as noted in the

“Addresses” section of this document.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 49 CFR 1:48.

Issued in Washington, DC on February 4, 2022.
Kimberly Graber,
Deputy Assistant General Counsel, Office of Aviation Consumer Protection.

[FR Doc. 2022-02790 Filed 2-10-22; 8:45 am]

BILLING CODE P